DEPARTMENT OF ENERGY

Federal Energy Regulatory Commission

[Docket No. RP03-474-001]

Clear Creek Storage Company, L.L.C.; Notice of Compliance Filing

July 3, 2003.

Take notice that on July 1, 2003, Clear Creek Storage Company, L.L.C., (Clear Creek) tendered for filing as part of its FERC Gas Tariff, Original Volume No. 1, Substitute Original Sheet Nos. 44B and 44C and Substitute Second Revised Sheet No. 77A, to be effective July 1, 2003.

Clear Creek states that the filing is being filed in compliance the Commission's June 16, 2003, letter order in docket No. RP03-474-000.

Clear Creek explains that on May 8, 2003, tariff sheets were filed with the Commission in compliance with Order No. 587-R to implement Version 1.6 of the Standards promulgated by the North American Energy Standards Board's Wholesale Gas Quadrant (WGQ) and the WGQ's Standards governing partial day recalls. Clear Creek states that the Commission's June 16 order accepted Clear Creek's tariff sheets to be effective July 1, 2003, subject to Clear Creek revising and refiling certain tariff sheets as discussed in the order. Clear Creek states that this tariff filing is being tendered in compliance with the Commission's directive.

Clear Creek states further that a copy of this filing has been served upon its customers and the Public Service Commission of Wyoming.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Linda Mitry,
Acting Secretary.

[FR Doc. 03-17504 Filed 7-9-03; 8:45 am]

BILLING CODE 6717-01-P